DEPARTMENT OF COMMERCE

National Oceanic and Atmospheric Administration

RIN 0648-XA056

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene a public meeting of the Louisiana/Mississippi Habitat Protection Advisory Panel (AP).

DATES: The meeting will convene at 9 a.m. on Tuesday, December 14, 2010 and conclude no later than 4 p.m.

ADDRESSES: This meeting will be held at the Crowne Plaza Hotel, 2829 Williams Blvd, Kenner, LA 70062; telephone: (504) 467-5611.

Council address: Gulf of Mexico Fishery Management Council, 2203 North Lois Avenue, Suite 1100, Tampa, FL 33607.

FOR FURTHER INFORMATION CONTACT: Jeff Rester, Habitat Support Specialist, Gulf States Marine Fisheries Commission; telephone: (228) 875-5912.

SUPPLEMENTARY INFORMATION: At this meeting, the AP will tentatively discuss fishery modeling analyses for water resource projects, mitigation/restoration for damages to habitat from preventative oil spill protective work, the Louisiana State Master Plan prioritization process, the status and future of the CWPPRA program, the Natural Resource Damage Assessment planning and restoration plan, the Long Term Recovery Plan After the Deepwater Horizon Oil Spill, and the Essential Fish Habitat 5-Year Review Report.

The Louisiana/Mississippi group is part of a three unit Habitat Protection Advisory Panel (AP) of the Gulf of Mexico Fishery Management Council. The principal role of the advisory panels is to assist the Council in attempting to maintain optimum conditions within the habitat and ecosystems supporting the marine resources of the Gulf of Mexico. Advisory panels serve as a first alert system to call to the Council's attention proposed projects being developed and other activities that may adversely impact the Gulf marine fisheries and their supporting ecosystems. The panels may also provide advice to the Council on its policies and procedures for addressing environmental affairs.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Trish Kennedy at the Council (see ADDRESSES) at least 5 working days prior to the meeting.

Dated: November 19, 2010.
Tracey L. Thompson,
Acting Director, Office of Sustainable Fisheries, National Marine Fisheries Service.

[FR Doc. 2010-29691 Filed 11-24-10; 8:45 am]

BILLING CODE 3510-22-P